FEDERAL ELECTION COMMISSION

Sunshine Act Notices

AGENCY: Federal Election Commission.

PREVIOUSLY ANNOUNCED DATE & TIME: Tuesday, June 18, 2000, meeting closed to the public. This meeting was cancelled.

PREVIOUSLY ANNOUNCED DATE & TIME: Wednesday, June 26, 2002, meeting open to the public. This meeting has been cancelled.

DATE & TIME: Tuesday, June 25, 2002 at 10 a.m.

PLACE: 999 E Street, NW., Washington, DC.

STATUS: This meeting will be closed to the public.

Items To Be Discussed:

Compliance matters pursuant to 2 U.S.C. 437g.

Audits conducted pursuant to U.S.C. 437g. 438(b), and Title 26, U.S.C.

Matters concerning participation in civil actions or proceedings or arbitration.

Internal personnel rules and procedures or matters affecting a particular employee.

Person to Contact for Information: Mr. Ron Harris, Press Officer, Telephone: (202) 694-1220.

Mary W. Dove,
Secretary of the Commission.

[FR Doc. 02-15705 Filed 6-18-02; 12:01 pm]

BILLING CODE 6715-01-M